DEPARTMENT OF ENERGY

Federal Energy Regulatory Commission

[Docket No. RP04-188-000]

Great Lakes Gas Transmission Limited Partnership; Notice of Tariff Filing

March 3, 2004.

Take notice that on February 27, 2004, Great Lakes Gas Transmission Limited Partnership (Great Lakes) tendered for filing as part of its FERC Gas Tariff, Second Revised Volume No. 1, the following tariff sheets, proposed to be effective April 1, 2004:

Fifteenth Revised Sheet No. 1

Fourth Revised Sheet No. 21

Sixth Revised Sheet No. 22

Tenth Revised Sheet No. 40

Eighth Revised Sheet No. 40A

Second Revised Sheet No. 44

Original Sheet No. 50R

Original Sheet No. 50S

Original Sheet No. 50T

Second Revised Sheet No. 56

Fourth Revised Sheet No. 57

First Revised Sheet No. 57K

First Revised Sheet No. 57L

Fourth Revised Sheet No. 61

Second Revised Sheet No. 62

Third Revised Sheet No. 63G

First Revised Sheet No. 63H

Second Revised Sheet No. 68

First Revised Sheet No. 69

Great Lakes acknowledges the Commission's recent Notice of Proposed Rulemaking (NOPR) in Docket No. RM04-4-000, Creditworthiness Standards for Interstate Natural Gas Pipelines Great Lakes states that it reserves the right to submit comments on the matters and issues proposed in the NOPR, including any related matters or alternate proposals, as well as the right to file revisions to the creditworthiness standards of its tariff consistent with the final rule in that proceeding.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-490 Filed 3-8-04; 8:45 am]

BILLING CODE 6717-01-P